DEPARTMENT OF JUSTICE

Notice of Lodging of Consent Decree Under the Comprehensive Environmental Response, Compensation, and Liability Act

Notice is hereby given that on September 25, 2003, a proposed Consent Decree in United States v. City of Long Beach, California, Civil Action No. CV 01-08790 PA (RCx) was lodged with the United States District Court for the Central District of California.

In this action the United States sought to recover unpaid response costs, pursuant to Section 107 of the Comprehensive Environmental Response, Compensation, and Liability Act of 1980, as amended, (“CERCLA”) incurred by the Environmental Protection Agency in connection with the release of hazardous substances at the Enviropur West Corporation Superfund Site, located in Signal Hill, California. Under the proposed Consent Decree, the City will pay $290,000 to the Hazardous Substance Superfund to reimburse the United States for a portion of its past response costs.

The Department of Justice will receive for a period of thirty (30) days from the date of this publication comments relating to the consent Decree. Comments should be addressed to the Assistant Attorney General, Environment and Natural Resources Division, P.O. Box 7611, U.S. Department of Justice, Washington, DC 20044-7611, and should refer to United States v. City of Long Beach, California, D.J. Ref. #90-11-3-1656/2.

The Consent Decree may be examined at U.S. EPA Region 9, 75 Hawthorne Street, San Francisco, CA 94105. During the public comment period, the Consent Decree, may also be examined on the following Department of Justice Web site, http://www.usdoj.gov/enrd/open.html. A copy of the Consent Decree may also be obtained by mail from the consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.50 (25 cents per page reproduction cost) payable to the U.S. Treasury.

Ellen M. Mahan,
Assistant Chief, Environmental Enforcement Section, Environment and Natural Resources Division.

[FR Doc. 03-25552 Filed 10-7-03; 8:45 am]

BILLING CODE 4410-15-M